DEPARTMENT OF ENERGY

Federal Energy Regulatory Commission

[Docket No. CP00-471-000]

Wyoming Interstate Company, Ltd.; Notice of Intent To Prepare an Environmental Assessment for the Proposed Medicine Bow Lateral Loop Project, Request for Comments on Environmental Issues, and Notice of Public Scoping Meetings and Site Visit

November 1, 2000.

The staff of the Federal Energy Regulatory Commission (FERC or Commission) will prepare an environmental assessment (EA) that will discuss the environmental impacts of Wyoming Interstate Pipeline Company, Ltd.'s (WIC) proposed Medicine Bow Lateral Loop Project in Weld County, Colorado and Laramie, Platte, and Converse Counties, Wyoming.¹ The Medicine Bow Lateral Loop Project would involve the construction and operation of about 155 miles of 36-inch-diameter pipeline and addition of about 7,170 horsepower (hp) of compression. This EA will be used by the Commission in its decision-making process to determine whether the project is in the public convenience and necessity.

¹ WIC's application under section 7(c) of the Natural Gas Act and Part 157 of the Commission's regulations was filed on September 26, 2000.

If you are a landowner receiving this notice, you may be contacted by a WIC representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” should have been attached to the project notice WIC provided to landowners. This fact sheet addresses a number of typically asked questions, including the use of eminent domain and how to participate in the Commission's proceedings. It is available for viewing on the FERC Internet website www.ferc.fed.us.

This Notice of Intent (NOI) is being sent to landowners along WIC's proposed route; Federal, state, and local government agencies; national elected officials; regional environmental and public interest groups; Indian tribes that might attach religious and cultural significance to historic properties in the area of potential effects; local libraries and newspapers; and the Commission's list of parties to the proceeding. Government representatives are encouraged to notify their constituents of this proposed action and encourage them to comment on their areas of concern. Additionally, with this NOI we are asking Federal, state, local, and tribal agencies with jurisdiction and/or special expertise with respect to environmental issues to cooperate with us in the preparation of the EA. These agencies may choose to participate once they have evaluated WIC's proposal relative to their agencies' responsibilities. Agencies who would like to request cooperating status should follow the instructions for filing comments described below.

Summary of the Proposed Project

WIC's proposed action consists of:

• About 155 miles of 36-inch-diameter pipeline, extending south from WIC's existing Douglas Compressor Station in Converse County, Wyoming to WIC's existing Cheyenne Compressor Station in Weld County, Colorado. This new pipeline would loop ² WIC's existing 24-inch-diameter lateral pipeline;

² A loop is a segment of pipeline that is installed adjacent to an existing pipeline and connected to it on both ends. The loop allows more gas to be moved through the pipeline system.

• Adding a 7,170 hp Solar Taurus 60S-C404 turbine compressor unit to WIC's Douglas Compressor Station; and

• Increasing the capacity of WIC's Medicine Bow measurement facilities at the Douglas Compressor Station and the Spearpoint measurement facilities at the Cheyenne Compressor Station.

The proposed facilities would allow WIC to increase capacity along this portion of its system from 380 million decatherms per day (MDth/d) of natural gas to 1,055 MDth/d. The loop would transport coal bed methane produced in the Power River Basin south to WIC's existing mainline.

The general location of WIC's facilities is shown on the map attached as appendix 1.³

³ The appendices referenced in this notice are not being printed in the Federal Register. Copies are available on the Commission's website at the “RIMS” link or from the Commission's Public Reference and File Maintenance Branch, 888 First Street, NE, Room 2A, Washington, DC 20426, or call (202) 208-1371. For instructions on connecting to RIMS refer to the last page of this notice. Copies of the appendices were sent to all those receiving this notice in the mail.

Land Requirements for Construction

Construction of WIC's proposed facilities would affect a total of about 2,684 acres of land. Following construction, about 939 acres would be retained as permanent right-of-way. The remaining 1,745 acres of temporary work space would be restored and allowed to revert to its former use.

The nominal construction right-of-way for the loop would be 100 feet wide, with 50 feet retained as permanent right-of-way. About 87 percent of the route of the loop would abut or overlap existing easements, including the permanent right-of-way for WIC's existing 24-inch-diameter lateral and adjacent power line rights-of-way. The loop would deviate away from existing rights-of-way in multiple segments, totaling 36 miles, because of terrain constraints, landowner requests, or to avoid impacts on sensitive environmental areas, such as the Oregon Trail.

The proposed aboveground facilities would consist of a new compressor unit, to be contained within an extension of the existing compressor building at WIC's Douglas Compressor Station. Construction for this new unit would disturb about 8 acres, of which 4 acres would be required for operation of the facility. The Medicine Bow and Spearpoint measurement facilities would be expanded within the existing yards for the Douglas and Cheyenne Compressor Stations, respectively, with about 1 acre of land disturbed by construction, but no additional land required for operation. New pig launcher and receiver facilities would be installed within the Douglas and Cheyenne Compressor Station yards, and within the permanent right-of-way at Block Valve No. 7. Eight other new block valves would be installed within the permanent right-of-way for the pipeline.

The EA Process

The National Environmental Policy Act (NEPA) requires the Commission to take into account the environmental impacts that could result from an action whenever it considers the issuance of a Certificate of Public Convenience and Necessity. NEPA also requires us ⁴ to discover and address concerns the public may have about proposals. We call this “scoping.” The main goal of the scoping process is to focus the analysis in the EA on the important environmental issues. By this NOI, the Commission requests public comments on the scope of the issues it will address in the EA. All comments received are considered during the preparation of the EA.

⁴ “Us,” “we,” and “our” refer to the environmental staff of the FERC's Office of Energy Projects.

Our independent analysis of the issues will be in the EA. Depending on the comments received during the scoping process, the EA may be published and mailed to Federal, state, and local agencies, elected officials, affected landowners, regional public interest groups, Indian tribes, local newspapers and libraries, and the Commission's official service list for this proceeding. A comment period will be allotted for review if the EA is published. We will consider all comments on the EA before we make our recommendations to the Commission.

Currently Identified Environmental Issues

The EA will discuss impacts that could occur as a result of construction and operation of the proposed project. We have already identified a number of issues that we think deserve attention based on a preliminary review of the proposed facilities and the environmental information provided by WIC. This preliminary list of issues may be changed based on your comments and our analysis.

• Geology and Soils.

—Shallow topsoil depth

—Erosion prone soils

• Water Resources and Wetlands.

—Crossing 26 perennial and 27 intermmittent streams

—Crossing 62 wetlands

• Vegetation and Wildlife.

—Crossing 1.5 miles of forest

—Potential impacts on cold water fisheries

• Threatened and Endangered Species

—Potential impacts on 4 federally listed species, including the Bald eagle, Black-footed ferret, Preble's meadow jumping mouse, and Ute ladies'-tresses

• Cultural Resources

—Potential impacts on 72 cultural resources, including the Oregon Trail

—Native American concerns

• Land Use

—Impacts on about 21 miles of public lands

—Impacts on about 133 miles of rangeland

• Air and Noise Quality

—Impacts on local air quality and noise environment as a result of the addition of the new compressor unit

Public Participation

You can make a difference by providing us with your specific comments or concerns about the project. By becoming a commentor, your concerns will be addressed in the EA and considered by the Commission. You should focus on the potential environmental effects of the proposal, alternatives to the proposal (including alternative locations or routes), and measures to avoid or lessen environmental impact. The more specific your comments, the more useful they will be. Please carefully follow these instructions to ensure that your comments are received in time and properly recorded:

• Send an original and two copies of your letter to: David P. Boergers, Secretary, Federal Energy Regulatory Commission, 888 First St., NE., Room 1A, Washington, DC 20426;

• Label one copy of the comments for the attention of the Gas/Hydro Group, PJ-11.3;

• Reference Docket No. CP00-471-000; and

• Mail your comments so that they will be received in Washington, DC on or before December 8, 2000. Comments and protests may be filed electronically via the internet in lieu of paper. See, 18 CFR 385.2001(a)(1)(iii) and the instructions on the Commission's web site at http://www.ferc.fed.us/efi/doorbell.htm.

(If you do not want to send comments at this time but still want to remain on our mailing list, please return the Information Request (appendix 3). If you do not return the Information Request, you will be removed from the environmental mailing list.)

Public Scoping Meetings and Site Visit

In addition to or in lieu of sending written comments, we invite you to attend the public scoping meetings the FERC will conduct in the project area. The locations and times for these meetings are listed below.

Monday, December 4, 2000, 7 pm: Best Western Hitching Post Inn, Rm. CCR East, 1700 W. Lincolnway, Cheyenne, WY 82001, (307) 638-3301

Tuesday, December 5, 2000, 7 pm: 4H Community Bldg., Platte County Fairgrounds, 59 Antelope Gap Rd., Wheatland, WY 82201, (307) 322-9504

Wednesday, December 6, 2000, 7 pm: Best Western Douglas Inn, Riverbend Ballroom, 1450 Riverbend Rd., Douglas, WY 82633, 307-358-9790

The public meetings are designed to provide you with more detailed information and another opportunity to offer your comments on the proposed project. WIC representatives will be present at the scoping meetings to describe their proposal. Interested groups and individuals are encouraged to attend the meetings and to present comments on the environmental issues they believe should be addressed in the EA. A transcript of each meeting will be made so that your comments will be accurately recorded.

On December 4, 5, and 6, 2000, we will also be conducting a site visit to the project area. This would be an on-the-ground inspection, conducted by automobile on public roads, or where access to private property has been granted (specific locations to be determined later). Anyone interested in participating in the site visit may contact the Commission's Office of External Affairs identified at the end of this notice for more details and must provide their own transportation.

Becoming an Intervenor

In addition to involvement in the EA scoping process, you may want to become an official party to the proceeding known as an “intervenor.” Intervenors play a more formal role in the process. Among other things, intervenors have the right to receive copies of case-related Commission documents and filings by other intervenors. Likewise, each intervenor must provide 15 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-0004 or on the FERC website (www.ferc.fed.us) using the “RIMS” link to information in this docket number. Click on the “RIMS” link, “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-28471 Filed 11-6-00; 8:45 am]

BILLING CODE 6717-01-M